DEPARTMENT OF TRANSPORTATION

Maritime Administration

[Docket No. MARAD 2004 18618]

Information Collection Available for Public Comments and Recommendations

ACTION: Notice and request for comments.

SUMMARY: In accordance with the Paperwork Reduction Act of 1995, this notice announces the Maritime Administration's (MARAD's) intention to request extension of approval for three years of a currently approved information collection.

DATES: Comments should be submitted on or before September 17, 2004.

FOR FURTHER INFORMATION CONTACT: Michael Ferris, Maritime Administration, 400 Seventh St., SW., Washington, DC 20590. Telephone: (202) 366-2324; FAX: (202) 366-9580; or e-mail: michael.ferris@marad.dot.gov. Copies of this collection also can be obtained from that office.

SUPPLEMENTARY INFORMATION: Title of Collection: Subsidy Voucher—“ Operating Differential Subsidy (Bulk & Liner Cargo Vessels).

Type of Request: Extension of currently approved information collection.

OMB Control Number: 2133-0024.

Form Numbers: MA-790, SF-1034 and Supporting Schedules.

Expiration Date of Approval: Three years from date of approval by the Office of Management and Budget.

Summary of Collection of Information: The Merchant Marine Act, 1936, authorizes the Secretary of Transportation to provide financial aid in the operation of contract vessels for bulk or liner cargo carrying services that help promote, develop, expand and maintain the foreign commerce of the United States. Vessel owners must submit documentation requesting the financial assistance to the Maritime Administration (MARAD).

Need and Use of the Information: MARAD will review the documentation to determine subsidies payable to operators for voyages performed in accordance with the Operating-Differential Subsidy (ODS) Agreements.

Description of Respondents: Operators of bulk and liner vessels.

Annual Responses: One.

Annual Burden: Two hours.

Comments: Comments should refer to the docket number that appears at the top of this document. Written comments may be submitted to the Docket Clerk, U.S. DOT Dockets, Room PL-401, 400 Seventh Street, SW., Washington, DC 20590. Comments also may be submitted by electronic means via the Internet at http://dms.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. e.d.t. (or e.s.t.), Monday through Friday, except Federal holidays. An electronic version of this document is available on the World Wide Web at http://dms.dot.gov.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

(Authority: 49 CFR 1.66.)

Dated: July 14, 2004.
By Order of the Maritime Administrator,
Joel C. Richard,
Secretary, Maritime Administration.

[FR Doc. 04-16312 Filed 7-16-04; 8:45 am]

BILLING CODE 4910-81-P